COMMITTEE FOR PURCHASE FROM PEOPLE WHO ARE BLIND OR SEVERELY DISABLED

Procurement List; Deletions

AGENCY: Committee for Purchase From People Who Are Blind or Severely Disabled.

ACTION: Deletions from the Procurement List.

SUMMARY: This action deletes products and services from the Procurement List that were furnished by nonprofit agencies employing persons who are blind or have other severe disabilities.

DATES: Date deleted from the Procurement List: June 23, 2019.

ADDRESSES: Committee for Purchase From People Who Are Blind or Severely Disabled, 1401 S Clark Street, Suite 715, Arlington, Virginia 22202-4149.

FOR FURTHER INFORMATION CONTACT: Michael R. Jurkowski, Telephone: (703) 603-2117, Fax: (703) 603-0655, or email CMTEFedReg@AbilityOne.gov.

SUPPLEMENTARY INFORMATION:

Deletions

On 4/19/2019, the Committee for Purchase From People Who Are Blind or Severely Disabled published notice of proposed deletions from the Procurement List.

After consideration of the relevant matter presented, the Committee has determined that the products and services listed below are no longer suitable for procurement by the Federal Government under 41 U.S.C. 8501-8506 and 41 CFR 51-2.4.

Regulatory Flexibility Act Certification

I certify that the following action will not have a significant impact on a substantial number of small entities. The major factors considered for this certification were:

1. The action will not result in additional reporting, recordkeeping or other compliance requirements for small entities.

2. The action may result in authorizing small entities to furnish the products and services to the Government.

3. There are no known regulatory alternatives which would accomplish the objectives of the Javits-Wagner-O'Day Act (41 U.S.C. 8501-8506) in connection with the products and services deleted from the Procurement List.

End of Certification

Accordingly, the following products and services are deleted from the Procurement List:

Products

NSN—Product Name: 7045-01-554-7680—CD/DVD Case, Clamshell, Multi-Color

Mandatory Source of Supply: Wiscraft, Inc., Milwaukee, WI

Contracting Activity: GSA/FAS ADMIN SVCS ACQUISITION BR(2, NEW YORK, NY

NSNs—Product Names:

8415-00-NIB-0123—Band, Helmet

8415-00-NIB-0124—Band, Helmet

Mandatory Source of Supply: Lions Services, Inc., Charlotte, NC

Contracting Activity: W6QK ACC-APG NATICK, NATICK, MA

NSN—Product Name: 8030-00-260-1053—Compound, Corrosion Preventative, Food Equipment, Clear, 55 Gallons

Mandatory Source of Supply: The Lighthouse for the Blind, St. Louis, MO

Contracting Activity: DLA TROOP SUPPORT, PHILADELPHIA, PA

NSNs—Product Names:

7510-00-205-0806—Fastener, Paper, 3″ Capacity with Compressor, 8.5″ Center

7510-00-235-6046—Fastener, Paper 8.5″ Nominal Distance Between Prongs

7510-00-235-6049—Fastener, Paper, 3″ Capacity with Compressor and Base

7510-00-244-1169—Fastener, Paper 2.75″ Nominal Distance Between Prongs

7510-01-442-1471—Fastener, Paper, Brown Coated, 2″ Capacity

7510-01-442-1479—Fastener, Paper, 2″ Capacity

7510-01-442-1480—Fastener, Paper, Brown Coated, 1″ Capacity

7510-01-442-1483—Fastener, Paper, 1″ Capacity

Mandatory Source of Supply: Delaware County Chapter, NYSARC, Inc., Walton, NY

Contracting Activity: GSA/FAS ADMIN SVCS ACQUISITION BR(2, NEW YORK, NY

Services

Service Type: Administrative Services

Mandatory for: Chicago Cooperative Adm Support Unit (CASU): Philadelphia Operations Center, Philadelphia, PA

Mandatory Source of Supply: Horizon House, Inc., Philadelphia, PA

Contracting Activity: HOUSING AND URBAN DEVELOPMENT, DEPARTMENT OF, DEPT OF HOUSING AND URBAN DEVELOPMENT

Service Type: Operation of Postal Service Center

Mandatory for: Kirtland Air Force Base: Buildings 20204 and 926, Kirtland AFB, NM

Mandatory Source of Supply: LifeROOTS, Inc., Albuquerque, NM

Contracting Activity: VETERANS AFFAIRS, DEPARTMENT OF, NAC

Service Type: Janitorial/Custodial

Mandatory for: U.S. Federal Building and Courthouse, 500 Fannin Street, Shreveport, LA

Mandatory Source of Supply: Goodwill Industries of North Louisiana, Inc., Shreveport, LA

Contracting Activity: GENERAL SERVICES ADMINISTRATION, FPDS AGENCY COORDINATOR

Service Type: Custodial Services

Mandatory for: Cereal Crops Research Unit: USDA Agricultural Research Service, 502 Walnut Street, Madison, WI

Mandatory Source of Supply: Madison Area Rehabilitation Centers, Inc., Madison, WI

Contracting Activity: AGRICULTURAL RESEARCH SERVICE, USDA ARS MWA 5114

Service Type: Switchboard Operation

Mandatory for: Defense Supply Center Richmond: 8000 Jefferson Davis Highway, Richmond, VA

Mandatory Source of Supply: Goodwill Services, Inc, Richmond, VA

Contracting Activity: DEFENSE LOGISTICS AGENCY, DLA AVIATION

Service Type: Administrative Services

Mandatory for: U.S. Attorney's Office-Atlanta, DOJ, Atlanta, GA

Mandatory Source of Supply: Bobby Dodd Institute, Inc., Atlanta, GA

Contracting Activity: FEDERAL PRISON SYSTEM, TERMINAL ISLAND, FCI

Service Type: Microfilm Reproduction

Mandatory for: United States Marine Corps: Headquarters (Navy Annex), Washington, DC

Mandatory Source of Supply: ServiceSource, Inc., Oakton, VA

Contracting Activity: DEPT OF THE NAVY, U S FLEET FORCES COMMAND

Service Type: Laundry Service

Mandatory for: Everett Naval Station, Everett, WA

Mandatory for: Everett Naval Station: Bachelor Enlisted Quarters (BEQ), Everett, WA

Mandatory for: Bangor Naval Subase BOQ & BEQ, Bremerton, WA

Mandatory for: Whidbey Island Naval Air Station

Mandatory Source of Supply: Northwest Center, Seattle, WA

Contracting Activity: DEPT OF THE NAVY, U S FLEET FORCES COMMAND

Service Type: Catering Service

Mandatory for: Salt Lake City Military Entrance Processing Station, Fort Douglas, UT

Mandatory Source of Supply: UNKNOWN

Contracting Activity: DEPT OF THE AIR FORCE, FA7014 AFDW PK

Service Type: Grounds Maintenance

Mandatory for: USDA, Agriculture Research Service: Weslaco Center, Weslaco, TX

Mandatory Source of Supply: Mavagi Enterprises, Inc., San Antonio, TX

Contracting Activity: AGRICULTURAL RESEARCH SERVICE, USDA ARS SPA 7D79

Service Type: Administrative Services

Mandatory for: Social Security Administration, 6400 Old Branch Avenue, Camp Springs, MD

Mandatory Source of Supply: Anchor Mental Health Association, Washington, DC

Contracting Activity: HEALTH AND HUMAN SERVICES, DEPARTMENT OF, DEPT OF HHS

Service Type: Mailroom Service

Mandatory for: US Coast Guard, Integrated Support Command, Alameda Mail Center, Alameda, CA

Mandatory Source of Supply: Pacific Coast Community Services, Richmond, CA

Contracting Activity: U.S. COAST GUARD, SILC BSS

Patricia Briscoe,
Deputy Director, Business Operations (Pricing and Information Management).

[FR Doc. 2019-10896 Filed 5-23-19; 8:45 am]

BILLING CODE 6353-01-P